NUCLEAR REGULATORY COMMISSION

[NRC-2008-0608]

Notice of Availability of the Draft Revision to Generic Environmental Impact Statement for License Renewal of Nuclear Plants, Revision 1, NUREG-1437 and Public Meetings

Notice is hereby given that the U.S. Nuclear Regulatory Commission (the Commission or NRC) has published and is issuing for public comment a draft revision to Generic Environmental Impact Statement for License Renewal of Nuclear Plants (GEIS), Revision 1, NUREG-1437. The draft GEIS, Revision 1 provides the technical basis for the 10-year update of Appendix B to Subpart A of Part 51—Environmental Effect of Renewing the Operating License of a Nuclear Power Plant in accordance with 10 CFR part 51.

The draft revised GEIS is publicly available at the NRC Public Document Room (PDR), located at One White Flint North, 11555 Rockville Pike, Rockville, Maryland 20852, or from the NRC's Agencywide Documents Access and Management System (ADAMS). The ADAMS Public Electronic Reading Room is accessible at http://adamswebsearch.nrc.gov/dologin.htm. The Accession Number for the draft revised GEIS is ML090220654. Persons who do not have access to ADAMS, or who encounter problems in accessing the documents located in ADAMS, should contact the NRC's PDR reference staff by telephone at 1-800-397-4209, or 301-415-4737, or by e-mail at pdr.resource@nrc.gov.

Comments on the draft revised GEIS should be submitted no later than October 14, 2009.

Written comments may be submitted by one of the following methods:

E-mail comments to: The Federal e-Rulemaking Portal at http://www.regulations.gov; search Docket ID NRC-2008-0608. Address questions about NRC dockets to Carol Gallagher 301-492-3668; e-mail Carol.Gallagher@nrc.gov.

Mail comments to: Michael Lesar, Chief, Rulemaking and Directives Branch, Mailstop TWB-05-B01M, Division of Administrative Services, Office of Administration, U.S. Nuclear Regulatory Commission, Washington, DC 20555-0001.

All comments received by the Commission will be made available electronically at the Commission's PDR in Rockville, Maryland, and through ADAMS. Comments submitted in writing or in electronic form will be made available to the public in their entirety on the Federal Government's rulemaking Web site http://www.regulations.gov. Please note that personal information, such as name, address, telephone, e-mail address, etc., will not be removed from your submission.

The NRC requests that any party soliciting or aggregating comments received from other persons for submission to the NRC inform those persons that the NRC will not edit their comments to remove any identifying or contact information, and therefore, they should not include any information in their comments that they do not want publicly disclosed.

The NRC will hold four public meetings to receive comments on the draft GEIS one in each of the NRC regions. The meetings will be held on the following dates and locations: September 15, 2009, DoubleTree Atlanta Perimeter, 6120 Peachtree Dunwoody Road, Atlanta, Georgia 30328; September 17, 2009, Boston Marriott Newton, 2345 Commonwealth Avenue, Newton, Massachusetts 02466; September 22, 2009, Hyatt Westlake Plaza, 880 South Westlake Boulevard, Westlake Village, California 91361; and September 24, 2009, DoubleTree Oak Brook, 1909 Spring Road, Oak Brook, Illinois 60523. The regional public meetings will start at 7 p.m. and will continue until 10 p.m., or until all members of the public have had an opportunity to present comments.

In addition, one rulemaking meeting will be held on October 1, 2009, at NRC Headquarters, Two White Flint North, 11545 Rockville Pike, Rockville, Maryland 20852. The October 1st meeting will be webstreamed to maximize the potential to include interested stakeholders via the NRC's Web site at http://www.nrc.gov/public-involve/public-meetings/webcast-live.html. The NRC Headquarters meeting will begin at 1 p.m.

The primary purpose for the meetings is to provide the public with an opportunity to comment on the draft revised GEIS. Each public meeting will be transcribed to record all comments. Written comments may also be submitted for the record at each of the meetings. The public meetings will begin with a brief overview of the draft revision and summary of the major environmental impact issues that were addressed in the draft GEIS revision. Members of the public are also invited to attend an informational open house two hours before the start of each regional public meeting. The NRC staff will be on hand to answer questions about the GEIS revision, and provide general information about the NRC and the license renewal program.

Members of the public interested in presenting oral comments at the public meetings may pre-register by contacting Jennifer Davis, the NRC Project Manager at 1-800-368-5642, extension 3835, or by e-mail at LRGEISUpdate@nrc.gov, by September 9, 2009. The public may also register to provide oral comments up to 15 minutes before the start of each public meeting. The amount of time allowed for individual oral comments may be limited to afford time for everyone to speak, and will also depend on the number of persons who pre-register. If special accommodations or equipment are needed at the public meeting, the need should be brought to Ms. Davis's attention no later than September 1, 2009, to provide sufficient time for the NRC staff to accommodate the request.

Concurrent with the GEIS revision, the NRC is also publishing the revised Regulatory Guide (RG) 4.2, Supplement 1, Revision 1, Preparation of Environmental Reports for Nuclear Power Plant License Renewal Applications; and revised NUREG-1555, Supplement 1, Revision 1, Standard Review Plans for Environmental Reviews for Nuclear Power Plants (ESRP). Comments submitted on RG 4.2, Supplement 1, Revision 1, and ESRP, Supplement 1, Revision 1, will also be considered.

For Further Information Contact: Ms. Jennifer Davis, Project Manager, Environmental Review Branch, Division of License Renewal, Office of Nuclear Reactor Regulation, U.S. Nuclear Regulatory Commission, Mail Stop O-11F1, Washington, DC 20555-0001. Ms. Davis may be contacted at the aforementioned telephone number or e-mail address.

Dated at Rockville, Maryland, this 23rd day of July 2009.
For the Nuclear Regulatory Commission.
Brian E. Holian,
Director, Division of License Renewal, Office of Nuclear Reactor Regulation.

[FR Doc. E9-18010 Filed 7-30-09; 8:45 am]

BILLING CODE 7590-01-P